DEPARTMENT OF ENERGY

FEDERAL ENERGY REGULATORY COMMISSION

[Project No. 2177-039]

Georgia Power Company; Availability of Draft Environmental Assessment

August 3, 2000.

An environmental assessment (EA) is available for public review. The EA analyzes the environmental effects of a request to amend the license to authorize Georgia Power Company to withdraw up to 32 million gallons of water per day from the Goat Rock Development impoundment, part of the Middle Chattahoochee Project. The water would be used for cooling tower maker-up, non-contact cooling water, and other plant uses for a proposed natural gas-fired combustion turbine combined-cycle power plant in Lee County, Alabama, outside the project boundary.

The EA was written by staff in the Office of Energy Projects, Federal Energy Regulatory Commission. The proposal non-project use of project lands and waters would not constitute a major federal action significantly affecting the quality of the human environment. Copies of the EA can be viewed on the web at www.ferc.fed.us/online/rims.htm. Call (202) 208-2222 for assistance. copies are also available for inspection and reproduction at the Commission's Public Reference Room located at 888 First Street, NE, Room 2A, Washington, DC 20426, or by calling (202) 208-1371.

Anyone may file comments on the EA. The public, federal and state resource agencies are encouraged to provide comments. All written comments must be filed within 30 days of the issuance date of this notice shown above. Send an original and eight copies of all comments marked with the docket number P-2177-039 to: The Secretary, Federal Energy Regulatory Commission, 888 First Street, NE, Washington, DC 20426. If you have any questions regarding this notice, please contact R. Feller at telephone (202) 219-2796 or e-mail: rainer.feller@ferc.fed.us.

David P. Boergers,
Secretary.

[FR Doc. 00-20072 Filed 8-8-00; 8:45 am]

BILLING CODE 6717-01-M